NUCLEAR REGULATORY COMMISSION

Rulemaking To Establish a Regulatory Framework for the Expanded Definition of Byproduct Material Established by the Energy Policy Act; Meeting

AGENCY: Nuclear Regulatory Commission.

ACTION: Notice of meeting.

SUMMARY: Section 651(e) of the Energy Policy Act of 2005 expanded the definition of byproduct material as defined in the Atomic Energy Act of 1954, as amended. To comply with the Congressional mandate, the Nuclear Regulatory Commission (NRC) is changing its regulations to expand the definition of byproduct material to include the following materials produced, extracted, or converted after extraction for use for commercial, medical, or research activities: (1) Discrete sources of radium-226, (2) accelerator-produced radioactive material, and (3) discrete sources of naturally occurring radioactive material, other than source material, that the Commission, in consultation with the Administrator of the Environmental Protection Agency, the Secretary of Energy, the Secretary of Homeland Security, and other appropriate Federal agencies, determines would pose a threat to public health and safety or the common defense and security similar to the threat posed by a discrete source of radium-226. To aid in the rulemaking process, NRC is holding a public meeting with a “roundtable” format (defined further in the body of this notice) to solicit input, that may be useful in drafting a proposed rule, from stakeholders. The meeting is open to the public, and all interested parties may attend. Individuals unable to attend the meeting will be able to listen by teleconference.

DATES: November 9, 2005, from 9 a.m. to 4 p.m. Registration is from 8:30 a.m. to 9 a.m.; however, all persons planning to attend the meeting are encouraged to preregister in order to facilitate security check-in on the day of the meeting.

ADDRESSES: Nuclear Regulatory Commission, Two White Flint North, Room T-2B3, 11545 Rockville Pike, Rockville, Maryland.

FOR FURTHER INFORMATION CONTACT: Leslie Kerr, telephone (301) 415-6272, e-mail lsk@nrc.gov, of the Office of Nuclear Material Safety and Safeguards, U.S. Nuclear Regulatory Commission, Washington, DC 20555-0001. Questions on the meeting format, including participation in the roundtable, should be directed to the meeting facilitator, Francis “Chip” Cameron. Mr. Cameron can be reached at 301-415-1642 or fxc@nrc.gov. To preregister to attend the meeting in person or to participate via teleconference, please contact Jayne McCausland, telephone (301) 415-6219, fax (301) 415-5369, or e-mail jmm2@nrc.gov.

SUPPLEMENTARY INFORMATION: Section 651(e) of the Energy Policy Act of 2005 (the Act) expanded the definition of byproduct material in Section 11e. of the Atomic Energy Act of 1954 to include certain naturally occurring and accelerator produced radioactive material (NARM) and required the NRC to provide a regulatory framework for licensing and regulating the additional byproduct material. The NRC is conducting a rulemaking to revise its regulations to expand the definition of byproduct material to include: (1) Any discrete source of radium-226 that is produced, extracted, or converted after extraction for use for commercial, medical, or research activities; (2) accelerator-produced radioactive material that is produced, extracted, or converted after extraction for use for commercial, medical, or research activities; and (3) any discrete source of naturally occurring radioactive material, other than source material, that is extracted or converted after extraction for use for commercial, medical, or research activities that the Commission determines, in consultation with the Administrator of the Environmental Protection Agency, the Secretary of Energy, the Secretary of Homeland Security, and the head of any other appropriate Federal agency, would pose a threat to public health and safety or the common defense and security similar to the threat posed by discrete sources of radium-226.

NRC is holding a public meeting on November 9, 2005 to solicit input from stakeholders on the regulation of NARM. The format for this public meeting will be a “roundtable” format. Participants at the roundtable will be the invited representatives of the broad spectrum of interests who may be affected by this rulemaking. The roundtable format is being used for this meeting to promote a dialogue among the representatives at the table on the issues of concern. Although the focus of the discussion will be on the invited participants at the table, an opportunity will be provided for comment and questions from the audience. Questions on the meeting format, including participation in the roundtable, should be directed to the meeting facilitator, Francis “Chip” Cameron. Mr. Cameron can be reached at 301-415-1642 or fxc@nrc.gov. An agenda for the meeting will be posted to the NRC's rulemaking website: http://ruleforum.llnl.gov.

Those planning to attend the meeting are encouraged to preregister for the meeting by notifying Ms. Jayne M. McCausland, telephone (301) 415-6219, fax (301) 415-5369, or e-mail jmm2@nrc.gov. If an attendee will require special services, such as services for the hearing impaired, please notify Ms. McCausland of these requirements when preregistering. Individuals unable to attend the meeting will be able to listen by teleconference. For teleconference information, please contact Ms. McCausland.

The NRC is accessible to the White Flint Metro Station. Visitor parking near the NRC buildings is limited.

Dated at Rockville, Maryland, this 20th day of October, 2005.
For the Nuclear Regulatory Commission.
Charles L. Miller,
Director, Division of Industrial and Medical Nuclear Safety, Office of Nuclear Material Safety and Safeguards.

[FR Doc. E5-6021 Filed 10-31-05; 8:45 am]

BILLING CODE 7590-01-P